DEPARTMENT OF COMMERCE

National Oceanic and Atmospheric Administration

RIN 0648-XC358

Appointments to a Recreational Fisheries Working Group by the Marine Fisheries Advisory Committee

AGENCY: National Marine Fisheries Service (NMFS), National Oceanic and Atmospheric Administration (NOAA), Commerce.

ACTION: Notice; request for nominations.

SUMMARY: Nominations are being solicited for appointment to a Recreational Fisheries Working Group of the Marine Fisheries Advisory Committee (MAFAC). The members will be appointed by MAFAC in consultation with NOAA and will serve for an initial term of up to two years, with the option to apply to be re-appointed. The term would begin in February or March 2013. Nominees should possess demonstrable expertise in the management or business of recreational fishing and/or fisheries science; a well-informed background in recreational fisheries issues; an operational knowledge of federal agencies and interactions with the Fishery Management Councils and/or regional and state partners; and be able to fulfill the time commitments required for up to two annual meetings.

DATES: Applications must be received on or before January 9, 2013, via mail or email.

ADDRESSES: Applications should be sent to Danielle Rioux, Recreational Fisheries Policy Specialist, NMFS SF-13336, 1315 East-West Highway, Silver Spring, MD 20910 or Danielle.Rioux@noaa.gov.

FOR FURTHER INFORMATION CONTACT: Danielle Rioux, Recreational Fisheries Policy Specialist; (301) 427-8516; email: Danielle.Rioux@noaa.gov.

SUPPLEMENTARY INFORMATION: MAFAC is the only Federal advisory committee with the responsibility to advise the Secretary of Commerce (Secretary) on all matters concerning living marine resources that are the responsibility of the Department of Commerce. MAFAC established a Recreational Fisheries Working Group (RFWG) in 2010, to assist it in the development of recommendations to the Secretary on regulations, policies and programs critical to the mission and goals of the NMFS. The RFWG is composed of people with a specific interest and qualification related to NOAA's recreation-related activities. Beginning in 2013, half of the RFWG appointments will expire every year, and applications/nominations will be solicited each year to fill these seats. The RFWG is expected to have no more than 25 members to be selected from a balance of the diverse national and regional recreational fisheries sector and community perspectives. With this solicitation NOAA will fill 6 currently empty seats, as well as any vacancies that develop during the reappointment process.

MAFAC established the RFWG to advise MAFAC on issues of importance to the recreational fishing community, including, but not limited to: (1) Review and possible revision of the NOAA National and Regional Recreational Fisheries Action Agendas, (2) planning for a second National Saltwater Recreational Fisheries Summit, and such other recreational fisheries issues and activities identified as appropriate by MAFAC.

The RGWG members cannot be employed by NOAA or a member of a Regional Fishery Management Council or have been registered as a lobbyist with the Secretary of the Senate and the Clerk of the House of Representatives within two years of the date of appointment. Membership is voluntary, and except for reimbursable travel and related expenses, service is without pay.

Each submission should provide the nominee's name and affiliation (i.e. private angler, charterboat, trade association, etc.) and contact information including address, phone number, fax number, and email address (if available); and should describe the nominee's qualifying experience in the following areas:

1. Expertise in the management or business of recreational fishing, and/or fisheries science;

2. Informed background in recreational fisheries issues; and

3. Operational knowledge of federal agencies and interactions with the Fishery Management Councils and/or regional and state partners.

Letters of support will be accepted, and may be submitted with the application or separately. Applications and letters of support should be sent to (see ADDRESSES) and must be received by (see DATES). The full text of the MAFAC Charter and its current membership can be viewed at the NMFS Web page at www.nmfs.noaa.gov/ocs/mafac/.

Dated: December 5, 2012.
Samuel D. Rauch III,
Deputy Assistant Administrator for Regulatory Programs, performing the functions and duties of the Assistant Administrator for Fisheries.

[FR Doc. 2012-29758 Filed 12-7-12; 8:45 am]

BILLING CODE 3510-22-P